OFFICE OF THE UNITED STATES TRADE REPRESENTATIVE

Reallocation of Unused Fiscal Year 2014 Tariff-Rate Quota Volume for Raw Cane Sugar

AGENCY: Office of the United States Trade Representative.

ACTION: Notice.

SUMMARY: The Office of the United States Trade Representative (USTR) is providing notice of country-by-country reallocations of the FY 2014 in-quota quantity of the World Trade Organization (WTO) tariff-rate quota (TRQ) for imported raw cane sugar.

DATES: July 10, 2014.

ADDRESSES: Inquiries may be delivered to Ann Heilman-Dahl, Director of Agricultural Affairs, Office of Agricultural Affairs, Office of the United States Trade Representative, 600 17th Street NW., Washington, DC 20508.

FOR FURTHER INFORMATION CONTACT: Ann Heilman-Dahl, Office of the United States Trade Representative, Office of Agricultural Affairs, telephone: 202-395-6127 or facsimile: 202-395-4579.

SUPPLEMENTARY INFORMATION: Pursuant to Additional U.S. Note 5 to Chapter 17 of the Harmonized Tariff Schedule of the United States (HTS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On September 13, 2013, the Secretary of Agriculture established the FY 2014 TRQ for imported raw sugar cane at the minimum to which the United States committed to pursuant to the World Trade Organization (WTO) Uruguay Round Agreements (1,117,195 MTRV). On September 18, 2013, USTR provided notice of country-by-country allocations of the FY 2014 in-quota quantity of the WTO TRQ for imported raw cane sugar. Based on consultation with quota holders, USTR has determined to reallocate 99,290 MTRV of the original WTO TRQ quantity from those countries that have stated they do not plan to fill their FY 2014 allocated raw cane sugar quantities. USTR is allocating the 99,290 MTRV to the following countries in the amounts specified below:

Country | FY 2014 reallocation
Argentina | 4,523
Australia | 8,730
Belize | 1,157
Bolivia | 841
Brazil | 15,251
Colombia | 2,524
Costa Rica | 1,578
Dominican Republic | 18,512
Ecuador | 1,157
El Salvador | 2,735
Fiji | 947
Guatemala | 5,049
Guyana | 1,262
Honduras | 1,052
India | 841
Jamaica | 1,157
Mozambique | 1,367
Nicaragua | 2,209
Panama | 3,050
Peru | 4,312
Philippines | 14,199
South Africa | 2,419
Swaziland | 1,683
Thailand | 1,473
Zimbabwe | 1,262

These allocations are based on the countries' historical shipments to the United States. The allocations of the raw cane sugar WTO TRQ to countries that are net importers of sugar are conditioned on receipt of the appropriate verifications of origin. Certificates of quota eligibility must accompany imports from any country for which an allocation has been provided.

Conversion factor: 1 metric ton = 1.10231125 short tons.

Michael Froman,
United States Trade Representative.

[FR Doc. 2014-16105 Filed 7-9-14; 8:45 am]

BILLING CODE 3290-F4-P